DEPARTMENT OF ENERGY

Federal Energy Regulatory Commission

Combined Notice of Filings

Take notice that the Commission has received the following Natural Gas Pipeline Rate and Refund Report filings:

Docket Number: PR21-45-000.

Applicants: Montana-Dakota Utilities Co.

Description: Tariff filing per 284.123(b),(e)+(g): Update to Statement of Operation Conditions and Rates to be effective 4/1/2021.

Filed Date: 4/29/2021.

Accession Number: 202104295068.

Comments Due: 5 p.m. ET 5/20/2021.

284.123(g) Protests Due: 5 p.m. ET 6/28/2021.

Docket Number: PR21-46-000.

Applicants: DCP Guadalupe Pipeline, LLC.

Description: Tariff filing per 284.123(b)(2)+(g): Guadalupe SOC 7.0.0 to be effective 5/1/2021.

Filed Date: 4/30/2021.

Accession Number: 202104305201.

Comments Due: 5 p.m. ET 5/21/2021.

284.123(g) Protests Due: 5 p.m. ET 6/29/2021.

Docket Numbers: RP21-100-002.

Applicants: National Grid LNG, LLC.

Description: Compliance filing 2021-04-28 Motion to Place Suspended Revised Tariff Record into Effect to be effective 5/1/2021.

Filed Date: 4/28/21.

Accession Number: 20210428-5028.

Comments Due: 5 p.m. ET 5/10/21.

Docket Numbers: RP20-1042-001.

Applicants: Northern Natural Gas Company.

Description: Compliance filing 20210429 2020 Operational Purchases and Sales Report.

Filed Date: 4/29/21.

Accession Number: 20210429-5196.

Comments Due: 5 p.m. ET 5/11/21.

Docket Numbers: RP16-864-003.

Applicants: Columbia Gas Transmission, LLC.

Description: Compliance filing Revenue Sharing Report 2021.

Filed Date: 4/30/21.

Accession Number: 20210430-5089.

Comments Due: 5 p.m. ET 5/12/21.

Docket Numbers: RP21-720-001.

Applicants: WBI Energy Transmission, Inc.

Description: Tariff Amendment: 2021 Amendment to New GMS—Uncommitted Capacity to be effective 5/7/2021.

Filed Date: 4/30/21.

Accession Number: 20210430-5377.

Comments Due: 5 p.m. ET 5/12/21.

Docket Numbers: RP21-768-000.

Applicants: Natural Gas Pipeline Company of America.

Description: § 4(d) Rate Filing: Amendment to a Negotiated Rate Agreement-WSGP Gas Producing to be effective 5/1/2021.

Filed Date: 4/30/21.

Accession Number: 20210430-5001.

Comments Due: 5 p.m. ET 5/12/21.

Docket Numbers: RP21-769-000.

Applicants: Transcontinental Gas Pipe Line Company, LLC.

Description: § 4(d) Rate Filing: Rate Schedule SS-2 Clean-up Filing to be effective 5/31/2021.

Filed Date: 4/30/21.

Accession Number: 20210430-5016.

Comments Due: 5 p.m. ET 5/12/21.

Docket Numbers: RP21-770-000.

Applicants: Bison Pipeline LLC.

Description: Compliance filing 2021 Operational Purchase and Sales Report.

Filed Date: 4/30/21.

Accession Number: 20210430-5050.

Comments Due: 5 p.m. ET 5/12/21.

Docket Numbers: RP21-771-000.

Applicants: Northern Border Pipeline Company.

Description: Compliance filing 2021 Operational Purchases and Sales Report.

Filed Date: 4/30/21.

Accession Number: 20210430-5051.

Comments Due: 5 p.m. ET 5/12/21.

Docket Numbers: RP21-772-000.

Applicants: Great Lakes Gas Transmission Limited Partnership.

Description: Compliance filing 2021 Operational Purchases and Sale Report.

Filed Date: 4/30/21.

Accession Number: 20210430-5052.

Comments Due: 5 p.m. ET 5/12/21.

Docket Numbers: RP21-773-000.

Applicants: Blue Lake Gas Storage Company.

Description: Compliance filing 2021 Operational Purchases and Sales Report.

Filed Date: 4/30/21.

Accession Number: 20210430-5053.

Comments Due: 5 p.m. ET 5/12/21.

Docket Numbers: RP21-774-000.

Applicants: Kern River Gas Transmission Company.

Description: § 4(d) Rate Filing: 2021 April Negotiated Rate Agreement to be effective 5/1/2021.

Filed Date: 4/30/21.

Accession Number: 20210430-5065.

Comments Due: 5 p.m. ET 5/12/21.

Docket Numbers: RP21-775-000.

Applicants: Gulf South Pipeline Company, LLC.

Description: § 4(d) Rate Filing: Cap Rel Neg Rate Agmts (Atlanta Gas 8438 to various shippers eff 5-1-2021) to be effective 5/1/2021.

Filed Date: 4/30/21.

Accession Number: 20210430-5069.

Comments Due: 5 p.m. ET 5/12/21.

Docket Numbers: RP21-776-000.

Applicants: Equitrans, L.P.

Description: § 4(d) Rate Filing: Negotiated Rate Service Agreements—effective 5/1/2021 to be effective 5/1/2021.

Filed Date: 4/30/21.

Accession Number: 20210430-5070.

Comments Due: 5 p.m. ET 5/12/21.

Docket Numbers: RP21-777-000.

Applicants: ETC Tiger Pipeline, LLC.

Description: § 4(d) Rate Filing: Fuel Filing on 4-30-21 to be effective 6/1/2021.

Filed Date: 4/30/21.

Accession Number: 20210430-5078.

Comments Due: 5 p.m. ET 5/12/21.

Docket Numbers: RP21-778-000.

Applicants: Southern Star Central Gas Pipeline, Inc.

Description: § 4(d) Rate Filing: Section 4 Rate Case Filing April 30, 2021 to be effective 6/1/2021.

Filed Date: 4/30/21.

Accession Number: 20210430-5083.

Comments Due: 5 p.m. ET 5/12/21.

Docket Numbers: RP21-779-000.

Applicants: Eastern Gas Transmission and Storage, Inc.

Description: § 4(d) Rate Filing: EGTS—April 30, 2021 Nonconforming Service Agreement to be effective 6/1/2021.

Filed Date: 4/30/21.

Accession Number: 20210430-5084.

Comments Due: 5 p.m. ET 5/12/21.

Docket Numbers: RP21-780-000.

Applicants: Maritimes & Northeast Pipeline, L.L.C.

Description: § 4(d) Rate Filing: Negotiated Rate—Northern Utilities 210363 release to 2007 eff 5-1-2021 to be effective 5/1/2021.

Filed Date: 4/30/21.

Accession Number: 20210430-5101.

Comments Due: 5 p.m. ET 5/12/21.

Docket Numbers: RP21-781-000.

Applicants: Fayetteville Express Pipeline LLC.

Description: § 4(d) Rate Filing: Fuel Filing on 4-30-21 to be effective 6/1/2021.

Filed Date: 4/30/21.

Accession Number: 20210430-5119.

Comments Due: 5 p.m. ET 5/12/21.

Docket Numbers: RP21-782-000.

Applicants: Rockies Express Pipeline LLC.

Description: § 4(d) Rate Filing: REX 2021-04-30 Negotiated Rate Agreement to be effective 5/1/2021.

Filed Date: 4/30/21.

Accession Number: 20210430-5129.

Comments Due: 5 p.m. ET 5/12/21.

Docket Numbers: RP21-783-000.

Applicants: Cameron Interstate Pipeline, LLC.

Description: Annual Report of Interruptible Transportation Revenue Sharing of Cameron Interstate Pipeline, LLC under RP21-783.

Filed Date: 4/30/21.

Accession Number: 20210430-5133.

Comments Due: 5 p.m. ET 5/12/21.

Docket Numbers: RP21-784-000.

Applicants: Cameron Interstate Pipeline, LLC.

Description: Annual Report of Operational Imbalances and Cash-Out Activity of Cameron Interstate Pipeline, LLC under RP21-784.

Filed Date: 4/30/21.

Accession Number: 20210430-5139.

Comments Due: 5 p.m. ET 5/12/21.

Docket Numbers: RP21-785-000.

Applicants: Southeast Supply Header, LLC.

Description: Compliance filing 2021 SESH TUP/SBA Annual Filing.

Filed Date: 4/30/21.

Accession Number: 20210430-5163.

Comments Due: 5 p.m. ET 5/12/21.

Docket Numbers: RP21-786-000.

Applicants: Northern Natural Gas Company.

Description: § 4(d) Rate Filing: 20210430 Winter PRA to be effective 11/1/2021.

Filed Date: 4/30/21.

Accession Number: 20210430-5164.

Comments Due: 5 p.m. ET 5/12/21.

Docket Numbers: RP21-787-000.

Applicants: Algonquin Gas Transmission, LLC.

Description: § 4(d) Rate Filing: Negotiated Rates—Various Releases eff 5-1-2021 to be effective 5/1/2021.

Filed Date: 4/30/21.

Accession Number: 20210430-5175.

Comments Due: 5 p.m. ET 5/12/21.

Docket Numbers: RP21-788-000.

Applicants: ANR Pipeline Company.

Description: Compliance filing Operational Purchases and Sales Report 2021.

Filed Date: 4/30/21.

Accession Number: 20210430-5174.

Comments Due: 5 p.m. ET 5/12/21.

Docket Numbers: RP21-789-000.

Applicants: Gulf South Pipeline Company, LLC.

Description: § 4(d) Rate Filing: Cap Rel Neg Rate Agmt (Constellation 53992 to Exelon 54031) to be effective 5/1/2021.

Filed Date: 4/30/21.

Accession Number: 20210430-5185.

Comments Due: 5 p.m. ET 5/12/21.

Docket Numbers: RP21-790-000.

Applicants: Gulf South Pipeline Company, LLC.

Description: § 4(d) Rate Filing: Cap Rel Neg Rate Agmts (FPL releases eff 5-1-2021) to be effective 5/1/2021.

Filed Date: 4/30/21.

Accession Number: 20210430-5186.

Comments Due: 5 p.m. ET 5/12/21.

Docket Numbers: RP21-791-000.

Applicants: Gulf South Pipeline Company, LLC.

Description: § 4(d) Rate Filing: Cap Rel Neg Rate Agmt (Southern 49811 to Texla 54035) to be effective 5/1/2021.

Filed Date: 4/30/21.

Accession Number: 20210430-5187.

Comments Due: 5 p.m. ET 5/12/21.

Docket Numbers: RP21-793-000.

Applicants: Gulf South Pipeline Company, LLC.

Description: § 4(d) Rate Filing: Cap Rel Neg Rate Agmt (Marathon 51753, 51754 to Spire 54046, 54047) to be effective 5/1/2021.

Filed Date: 4/30/21.

Accession Number: 20210430-5189.

Comments Due: 5 p.m. ET 5/12/21.

Docket Numbers: RP21-794-000.

Applicants: ANR Pipeline Company.

Description: § 4(d) Rate Filing: Cashout Surcharge 2021 to be effective 6/1/2021.

Filed Date: 4/30/21.

Accession Number: 20210430-5198.

Comments Due: 5 p.m. ET 5/12/21.

Docket Numbers: RP21-795-000.

Applicants: Transcontinental Gas Pipe Line Company, LLC.

Description: § 4(d) Rate Filing: Negotiated Rates—Cherokee AGL—Replacement Shippers—May 2021 to be effective 5/1/2021.

Filed Date: 4/30/21.

Accession Number: 20210430-5212.

Comments Due: 5 p.m. ET 5/12/21.

Docket Numbers: RP21-796-000.

Applicants: Spire STL Pipeline LLC.

Description: § 4(d) Rate Filing: Spire STL NRA Filing to be effective 5/1/2021.

Filed Date: 4/30/21.

Accession Number: 20210430-5214.

Comments Due: 5 p.m. ET 5/12/21.

Docket Numbers: RP21-797-000.

Applicants: NEXUS Gas Transmission, LLC.

Description: § 4(d) Rate Filing: Negotiated Rates—Chevron 860493 eff 05-01-2021 to be effective 5/1/2021.

Filed Date: 4/30/21.

Accession Number: 20210430-5215.

Comments Due: 5 p.m. ET 5/12/21.

Docket Numbers: RP21-798-000.

Applicants: Dauphin Island Gathering Partners.

Description: § 4(d) Rate Filing: Negotiated Rate Filing 4-30-2021 to be effective 5/1/2021.

Filed Date: 4/30/21.

Accession Number: 20210430-5226.

Comments Due: 5 p.m. ET 5/12/21.

Docket Numbers: RP21-799-000.

Applicants: Southeast Supply Header, LLC.

Description: § 4(d) Rate Filing: 2021 SESH TUP/SBA Annual Filing to be effective 6/1/2021.

Filed Date: 4/30/21.

Accession Number: 20210430-5271.

Comments Due: 5 p.m. ET 5/12/21.

Docket Numbers: RP21-800-000.

Applicants: Transcontinental Gas Pipe Line Company, LLC.

Description: § 4(d) Rate Filing: Non-Conforming—REA—Interim Firm Service—NJNG to be effective 11/1/2021.

Filed Date: 4/30/21.

Accession Number: 20210430-5278.

Comments Due: 5 p.m. ET 5/12/21.

Docket Numbers: RP21-801-000.

Applicants: Northern Natural Gas Company.

Description: § 4(d) Rate Filing: 20210430 Negotiated Rate to be effective 5/1/2021.

Filed Date: 4/30/21.

Accession Number: 20210430-5309.

Comments Due: 5 p.m. ET 5/12/21.

Docket Numbers: RP21-802-000.

Applicants: Sabine Pipe Line LLC.

Description: § 4(d) Rate Filing: Normal Section 7.26—rate changes 2021 to be effective 5/1/2021.

Filed Date: 4/30/21.

Accession Number: 20210430-5315.

Comments Due: 5 p.m. ET 5/12/21.

Docket Numbers: RP21-803-000.

Applicants: Transcontinental Gas Pipe Line Company, LLC.

Description: § 4(d) Rate Filing: List of Non-Conforming Service Agreements (REA Interim Firm—NJNG) to be effective 5/31/2021.

Filed Date: 4/30/21.

Accession Number: 20210430-5399.

Comments Due: 5 p.m. ET 5/12/21.

Docket Numbers: RP21-804-000.

Applicants: Rockies Express Pipeline LLC.

Description: § 4(d) Rate Filing: REX 2021-04-30 Negotiated Rate Agreement to be effective 5/1/2021.

Filed Date: 4/30/21.

Accession Number: 20210430-5412.

Comments Due: 5 p.m. ET 5/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2021.
Kimberly D. Bose,
Secretary.

[FR Doc. 2021-09721 Filed 5-6-21; 8:45 am]

BILLING CODE 6717-01-P